DEPARTMENT OF THE INTERIOR

Bureau of Indian Affairs

Burns-Paiute Tribe Liquor Ordinance

AGENCY: Bureau of Indian Affairs, Interior.

ACTION: Notice.

SUMMARY: This Notice is published in accordance with the authority delegated by the Secretary of the Interior to the Assistant Secretary—Indian Affairs by 209 DM 8, and in accordance with the Act of August 15, 1953, 67 Stat. 586, 18 U.S.C. 1161, as interpreted by the Supreme Court in Rice v. Rehner, 463 U.S. 713 (1983). I certify that by Resolution No. 99-12, the Burns-Paiute Liquor Ordinance, was duly adopted by the Burns-Paiute Tribe on September 25, 1999. The Ordinance regulates the control of, the possession of, and the sale of liquor on Burns-Paiute tribal trust lands, and is in conformity with the State of Oregon.

DATES: This Ordinance is effective as of March 15, 2000.

FOR FURTHER INFORMATION CONTACT: Jim D. James, Office of Tribal Services, 1849 C Street NW, MS 4631-MIB, Washington, D.C. 20240-4001; telephone (202) 208-4400.

SUPPLEMENTARY INFORMATION: The Burns-Paiute Tribe Liquor Ordinance, Resolution No. 99-12, is to read as follows:

Burns-Paiute Tribal Liquor Ordinance

Section 1—Title

This Ordinance shall be the Liquor Ordinance of the Burns-Paiute Indian Tribe and shall be referenced as the Tribal Liquor Ordinance.

Section 2—Findings and Purpose

1. The introduction, possession, and sale of liquor on Indian reservations has historically been recognized as a matter of special concern to Indian tribes and to the United States. The control of liquor on reservations remains exclusively subject to their legislative enactments.

2. Federal law currently prohibits the introduction of liquor into Indian Country (18 U.S.C. 1154), leaving tribes the decision regarding when and to what extent liquor transactions, sales, possession and service shall be permitted on their reservation (18 U.S.C. 1161).

3. The Burns-Paiute General Council discussed and approved a resolution to permit the sale and service of liquor at the Old Camp Casino, but at no other location, at the General Council meeting held in June 1999.

4. The enactment of this Tribal Ordinance to govern liquor sales and service on the Burns-Paiute Reservation, and the limitation of such liquor sales and service at the Old Camp Casino, will increase the ability of the tribal government to control reservation liquor distribution and possession, and at the same time will provide an important source of revenue for the continued operation of tribal government and the delivery of governmental services, as well as provide an amenity to customers at the Old Camp Casino.

5. In order to authorize limited liquor sales and service at the Old Camp Casino, to facilitate increased tribal control over liquor distribution on the Burns-Paiute Reservation, and to provide for urgently needed additional revenues for the Burns-Paiute tribal government, the Burns-Paiute Tribal Council adopts this Liquor Ordinance.

6. The Burns-Paiute Tribe has entered a Memorandum of Understanding (MOU) with the Oregon Liquor Control Commission to deal with governmental issues associated with the licensing and regulation of liquor sales on the Burns-Paiute Indian Reservation.

Section 3—Definitions

Unless otherwise required by the context, the following words and phrases shall have the designated meanings:

Alcohol: Is that substance known as ethyl alcohol, hydrated oxide or ethyl, or spirit of wine, which is commonly produced by the fermentation or distillation of grain, starch, molasses, or sugar, or other substances including all dilutions and mixtures of those substances.

Casino Manager: That person appointed by the Tribal Council to manage the Old Camp Casino.

Liquor or Liquor Products: Includes the four varieties of liquor herein defined (alcohol, spirits, wine, and beer) and all fermented, spirituous, vinous, or malt liquor, or a combination thereof, and mixed liquor, a part of which is fermented, spirituous, vinous, or malt liquor or otherwise intoxicating in every liquid or solid or semi-solid or other substance patented or not containing alcohol, spirits, wine, or beer, and all drinks of potable liquids and all preparations or mixtures capable of human consumption, and any liquid, semi-solid, solid, or other substance, which contains more than 1 percent (1%) of alcohol by weight shall be conclusively deemed to be intoxicating.

Old Camp Casino: Shall be the gaming facility located on the 10-acre Old Camp site located on the Burns-Paiute Indian Reservation which is more specifically described in Exhibit 1 to the Tribal-State Compact between the Burns-Paiute Tribe and the State of Oregon.

Sale and Sell: Includes exchange, barter, and traffic; and also the supplying or distribution by any means whatsoever, of liquor or any liquid known or described as beer or by any name whatever commonly used to describe malt or brewed liquor or wine, by any person to any other person; and also includes the supply and distribution to any other person.

Spirits: Any beverage which contains alcohol obtained by distillation, including wines exceeding 17 percent (17%) of alcohol by weight.

Wine: Any alcoholic beverage obtained by fermentation of fruits, grapes, berries, or any other agricultural product containing sugar, to which any saccharin substances may have been added before, during, or after fermentation, and containing not more than 17 percent (17%) of alcohol by weight, including sweet wines fortified with wine spirits, such as port, sherry, muscatel, and angelica, not exceeding 17 percent (17%) of alcohol by weight.

Section 4—Relation to Other Tribal Laws

All prior Ordinances and Resolutions of the Burns-Paiute Indian Tribe regulating, authorizing, prohibiting, or in any way dealing with the sale or service of liquor are hereby repealed and are of no further force or effect to the extent they are inconsistent or conflict with the provisions of this Ordinance. No tribal business licensing law or other tribal law shall be applied in a manner inconsistent with the provisions of this Ordinance.

Section 5—Authorized Sale and Service of Liquor

Liquor may be offered for sale and may be served on the Burns-Paiute Indian Reservation only in the Old Camp Casino. The sales and service of liquor in the Old Camp Casino may only be permitted in the following areas: liquor lounge, restaurant, and bingo hall when used for entertainment, food service, or convention/meeting purposes. All such sales and service of liquor in the Old Camp Casino shall be consistent with the Tribal-State Compact and applicable Federal and state law.

The Burns-Paiute Tribal Council hereby authorizes the Manager of the Old Camp Casino to apply for a Dispenser Class A License from the Oregon Liquor Control Commission (OLCC) for the sales and service of liquor at the Old Camp Casino as provided in this Ordinance. The casino Manager is further authorized to treat as a casino expense any license fees associated with the OLCC Liquor License.

Section 6—Prohibitions

A. General Prohibitions

The introduction of liquor, other than by the Burns-Paiute Tribe through its Old Camp Casino is prohibited within the Burns-Paiute Indian Reservation, and is hereby declared an offense under tribal law. Possession, sales, and service of liquor by any person prohibited by Federal law at 18 U.S.C. 1154 shall be lawful so long as the possession is in conformity with this Ordinance.

Federal Indian liquor laws shall remain applicable to any person, act, or transaction which is not authorized by this Ordinance and violators of this Ordinance shall be subject to Federal prosecution as well as to legal action in accordance with tribal law.

B. Age Restrictions

No person shall be authorized to serve liquor to casino patrons unless they are at least 21 years of age. No person may be served liquor unless they are 21 years of age.

C. No Consumption of Liquor Outside of Casino Premises

All liquor sales and service permitted by this Ordinance shall be fully consumed within the lounge or restaurant area within the Old Camp Casino. No open containers of liquor, or unopened containers of liquor in bottles, cans, or otherwise may be permitted outside of the casino premises.

D. No Credit Liquor Sales

The sales and service of liquor authorized by this Ordinance shall be upon a cash basis only. Payment for liquor shall be by cash, credit card, or check.

Section 7—Conformity With State Law

Authorized liquor sales and service on the Burns-Paiute Indian Reservation shall comply with Oregon State liquor law standards to the extent required by 18 U.S.C. 1161. The casino Manager shall be responsible for insuring that all OLCC license requirements are satisfied, that the license is renewed on an annual basis, and that all reasonable and necessary actions are taken to sell and serve liquor to casino patrons in a manner consistent with this Ordinance, applicable state law, and the Tribal-State Compact. The casino Manager shall also be authorized to purchase liquor from the State or other source for sale and service within the Old Camp Casino.

Section 8—Penalty

Any person or entity possessing, selling, serving, bartering, or manufacturing liquor products in violation of any part of this Ordinance shall be subject to a civil fine of not more than $500 for each violation involving possession, but up to $5,000 for each violation involving selling, bartering, or manufacturing liquor products in violation of this Ordinance, and violators may be subject to exclusion from the Burns-Paiute Indian Reservation. In addition, persons or entities subject to the criminal jurisdiction of the Burns-Paiute Tribe who violate this Ordinance shall be subject to criminal punishment as provided in the Burns-Paiute Law and Order Code. All contraband liquor shall be confiscated by the Burns-Paiute Police Department.

Section 9—Sovereign Immunity Preserved

Nothing in this Ordinance is intended or shall be construed as a waiver of the sovereign immunity of the Burns-Paiute Indian Tribe. No Manager or employee of the Old Camp Casino shall be authorized, nor shall they attempt, to waive the sovereign immunity of the tribe.

Section 10—Effective Date.

This Ordinance was passed at a duly held, noticed, and convened meeting of the Burns-Paiute Tribal Council by a vote of 4 to 0, which vote constitutes a quorum held on the 25th day of September 1999, as attested to and certified by Cecil Dick, Acting Secretary of the Burns-Paiute Tribal Council and Wanda Johnson, Burns-Paiute Tribal Chairperson and shall be effective upon approval by the Secretary of Interior or his designee as provided by Federal law.

Dated: March 3, 2000.
Kevin Gover,
Assistant Secretary—Indian Affairs.

[FR Doc. 00-6288 Filed 3-14-00; 8:45 am]

BILLING CODE 4310-02-P